DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from March 23, to March 27, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: May 5, 2009.
J. Paul Loether,
Chief, National Register of Historic Places/National Historic Landmarks Program.

KEY: State, County, Property Name, Address/Boundary, City, Vicinity, Reference Number, Action, Date, Multiple Name

ARKANSAS

Ashley County,

Hamburg Commercial Historic District, 100-200 block of E. Adams; 100 block N. Mulberry; 201 S. Mulberry; 201 and 205 N. Main St., Hamburg, 08001333, LISTED, 3/23/09

COLORADO

Grand County,

Barger Gulch Locality B, Address Restricted, Kremmling vicinity, 08001377, LISTED, 3/25/09

GEORGIA

Burke County,

Waynesboro Historic District, Roughly bounded by Walker St., 12th St., Waters St., Corker Row, 4th St., and Jones Ave., Waynesboro, 09000153, LISTED, 3/25/09

MICHIGAN

Oakland County,

McCoy, Kittie C., House, 1455 Benstein Rd., Commerce, 08001105, LISTED, 3/25/09

NEW YORK

Allegany County,

Centerville Town Hall, Fairview Rd., Centerville, 09000154, LISTED, 3/25/09

NEW YORK

Livingston County,

Engleside, 9086 McNair Rd., Dansville vicinity, 09000156, LISTED, 3/23/09

NEW YORK

Orange County,

Echo Lawn Estate, River Rd. at Stone Gate Dr., Balmville vicinity, 09000157, LISTED, 3/23/09

NEW YORK

Orange County,

Milliken-Smith Farm, 279 Bailey Rd., Montgomery vicinity, 09000158, LISTED, 3/25/09

NORTH CAROLINA

Cleveland County,

Double Shoals Cotton Mill, 199 Old Mill Rd., Double Shoals vicinity, 08000775, LISTED, 3/24/09

OHIO

Belmont County,

Friends Boarding School and Ohio Yearly Meetinghouse Historic District, 61830 Sandy Ridge Rd., Barnesville vicinity, 09000168, LISTED, 3/25/09

VIRGINIA

Charlottesville Independent City,

Oakhurst-Gildersleeve Neighborhood Historic District, Oakhurst Circle, Gildersleeve Wood, Valley Rd., Valley Circle, and part of Maywood Ln., and Jefferson Park Ave., Charlottesville, 09000161, LISTED, 3/25/09

VIRGINIA

Pittsylvania County,

Yeatts, John and Nancy, House, VA 795, Chatham vicinity, 09000173, LISTED, 3/25/09

VIRGINIA

Rockingham County,

Bogota, 5375 Lynnwood Rd., Port Republic vicinity, 09000162, LISTED, 3/24/09

WISCONSIN

Vilas County,

Jabodon, 1460 Everett Rd., Washington, 09000164, LISTED, 3/25/09

[FR Doc. E9-10802 Filed 5-8-09; 8:45 am]

BILLING CODE P